Title 3—

The President

Proclamation 7855 of December 15, 2004

60th Anniversary of the Battle of the Bulge, 2004

By the President of the United States of America

A Proclamation

Sixty years ago, more than 600,000 American soldiers fought at the Battle of the Bulge in the Ardennes Forest region of Belgium and Luxembourg. What began as a German surprise attack on December 16, 1944, became the largest land battle involving U.S. troops in World War II and ended with an Allied victory on January 25, 1945. By the end of the battle, there were 81,000 American casualties, including approximately 19,000 who had sacrificed their lives. This formidable stand was a turning point in the war and was critical to the defeat of Nazi Germany and the liberation of Europe from tyranny.

Americans continue to be inspired by the valor and integrity of those who fought and those who died at the Battle of the Bulge. We recognize these brave individuals and pay special tribute to all the veterans of World War II. When it mattered most, an entire generation of Americans showed the finest qualities of our Nation and humanity. Today, as we wage a war on terrorism and defend freedom, our service men and women follow and uphold this great tradition of achievement and courage. Just like their parents and grandparents, the men and women of this generation of our military have answered the call to help advance peace and democracy and keep the American people safe.

On the 60th anniversary of one of the fiercest battles of World War II, our Nation honors the veterans who share with us the story of this epic struggle and all of the brave Americans who fought in the Battle of the Bulge.

NOW, THEREFORE, I, GEORGE W. BUSH, President of the United States of America, by virtue of the authority vested in me by the Constitution and laws of the United States, do hereby urge all Americans to observe the 60th Anniversary of the Battle of the Bulge. I call upon all Americans to observe this occasion with appropriate activities, ceremonies, and programs designed to honor those who served and sacrificed to liberate Europe and defend America's freedom and security.

IN WITNESS WHEREOF, I have hereunto set my hand this fifteenth day of December, in the year of our Lord two thousand four, and of the Independence of the United States of America the two hundred and twenty-ninth.

B

[FR Doc. 04-27944

Filed 12-17-04; 9:18 am]

Billing code 3195-01-P